FEDERAL RESERVE SYSTEM

Change in Bank Control Notices, Acquisition of Shares of Bank or Bank Holding Companies; Correction

This notice corrects a notice (FR Doc. E7-19094) published on page 54914 of the issue for Thursday, September 27, 2007.

Under the Federal Reserve Bank of Kansas City heading, the entry for Joseph M. Sullivan, is revised to read as follows:

A. Federal Reserve Bank of Kansas City (Todd Offenbacker, Assistant Vice President) 925 Grand Avenue, Kansas City, Missouri 64198-0001:

1. Joseph M. Sullivan, as co-trustee, and individually; to retain voting shares of Grant County Bank Employee Stock Ownership Plan, and thereby indirectly retain voting shares of Resource One, Inc., and Grant County Bank, all of Ulysses, Kansas.

Comments on this application must be received by October 12, 2007.

Board of Governors of the Federal Reserve System, September 28, 2007.
Jennifer J. Johnson,
Secretary of the Board.

[FR Doc. E7-19508 Filed 10-2-07; 8:45 am]

BILLING CODE 6210-01-S